DEPARTMENT OF THE TREASURY

Submission for OMB Review; Comment Request

December 23, 2004.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before February 2, 2005 to be assured of consideration.

Internal Revenue Service (IRS)

OMB Number: 1545-1462.

Regulation Project Number: PS-268-82 Final.

Type of Review: Extension.

Title: Definitions under Subchapter S of the Internal Revenue Code.

Description: The regulations provide definitions and special rules under Code section 1377 which affect S corporations and their shareholders.

Respondents: Business or other for-profit, Individuals or households.

Estimated Number of Respondents: 4,000.

Estimated Burden Hours Respondent: 15 minutes.

Frequency of response: On occasion, Other (once).

Estimated Total Reporting Burden: 1,000 hours.

OMB Number: 1545-1612.

Regulation Project Number: REG-209830-96 Final.

Type of Review: Extension.

Title: Estate and Gift Tax Marital Deduction.

Description: The information requested in regulation section 20.2056(b)-7(d)(3)(ii) is necessary to provide a method for estates of decedents whose estate tax returns were due on or before February 18, 1997, to obtain an extension of time to make the qualified terminable interest property (QTIP) election under section 2056(b)(7)(B)(v).

Respondents: Individuals or households.

Estimated Number of Respondents: 1.

Estimated Burden Hours Respondent: 1 hour.

Frequency of response: Other (Once).

Estimated Total Reporting Burden: 1 hour.

OMB Number: 1545-1642.

Regulation Project Number: REG-104072-97 Final.

Type of Review: Extension.

Title: Recharacterizing Financing Arrangements Involving Fast-Pay Stock.

Description: Section 1.7701(l)-3 recharacterizes fast-pay arrangements. Certain participants in such arrangements must file a statement that includes the name of the corporation that issued the fast-pay stock, and (to the extent the filing taxpayer knows or has reason to know) the terms of the fast-pay stock, the date on which it was issued, and the names and taxpayer identification numbers of any shareholders of any class of stock that is not traded on an established securities market.

Respondents: Business or other for-profit.

Estimated Number of Respondents: 50.

Estimated Burden Hours Respondent: 1 hour.

Frequency of response: Annually.

Estimated Total Reporting Burden: 50 hours.

Clearance Officer: Paul H. Finger (202) 622-3634. Internal Revenue Service, Room 6516, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 04-28697 Filed 12-30-04; 8:45 am]

BILLING CODE 4830-01-P